SOCIAL SECURITY ADMINISTRATION

Agency Information Collection Activities: Comment Request

The Social Security Administration (SSA) publishes a list of information collection packages that will require clearance by the Office of Management and Budget (OMB) in compliance with P.L. 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the OMB Desk Officer and the SSA Reports Clearance Officer and at the following addresses: (OMB), Office of Management and Budget, Attn: Desk Officer for SSA, New Executive Office Building, Room 10230, 725 17th St., NW, Washington, D.C. 20503; (SSA), Social Security Administration, DCFAM, Attn: Frederick W. Brickenkamp 1-A-21 Operations Bldg., 6401 Security Blvd., Baltimore, MD 21235.

The information collections listed below have been submitted to OMB for clearance. Your comments on the information collections would be most useful if received by OMB and SSA within 30 days from the date of this publication. You can obtain a copy of the OMB clearance packages by calling the SSA Reports Clearance Officer on (410) 965-4145, or by writing to him at the address listed above.

1. Beneficiary Interview and Auditor's Observations Form-0960-0630. The information collected through the Beneficiary Interview and Auditor's Observations form, SSA-322, will be used by SSA's Office of the Inspector General to interview beneficiaries and/or their caregivers to determine whether representative payees are complying with their duties and responsibilities. Respondents to this collection will be randomly selected Supplemental Security Income (SSI) recipients and Social Security beneficiaries that have representative payees.

Number of Respondents: 200.

Frequency of Response: 1.

Average Burden Per Response: 15 minutes.

Estimated Annual Burden: 50 hours.

2. Pain Report—Child—0960-0540. The information collected on form SSA-3371-BK will be used to obtain the types of information specified in the regulations and to provide disability interviewers (and applicants/claimants in self-help situations) with a convenient means of recording the information obtained. This information is used by the State disability determination services (DDS) adjudicators and administrative law judges to assess the effects of symptoms on functionality for determining disability under the Social Security Act. The respondents are applicants for SSI benefits.

Number of Respondents: 250,000.

Frequency of Response: 1.

Average Burden Per Response: 15 minutes.

Estimated Annual Burden: 62,500 hours.

3. Modified Benefit Formula Questionnaire—Foreign Pension—0960-0561. The information collected on form SSA-308 is used by SSA to determine exactly how much (if any) of the foreign pension may be used to reduce the amount of the Social Security retirement or disability benefits under the modified benefit formula. The respondents are applicants for Social Security retirement/disability benefits.

Number of Responses: 50,000.

Frequency of Response: 1.

Average Burden Per Response: 10 minutes.

Estimated Annual Burden: 8,333 hours.

4. Physical Residual Functional Capacity Assessment; Mental Residual Functional Capacity Assessment—0960-0431. The information collected on form SSA-4734 is needed by SSA to assist in the adjudication of disability claims involving physical and/or mental impairments. The form assists the State DDS to evaluate impairment(s) by providing a standardized data collection format to present findings in a clear, concise and consistent manner. The respondents are State DDSs administering Social Security and SSI disability programs.

Number of Responses: 1,130,772.

Frequency of Response: 1.

Average Burden Per Response: 20 minutes.

Estimated Annual Burden: 376,924 hours.

5. Earnings Record Information—0960-0505. The information on Form SSA-L3231-C1 is used by SSA to ensure that the proper person is credited with earnings reported for a minor under age 7. The respondents are businesses reporting earnings for children under age 7.

Number of Respondents: 20,000.

Frequency of Response: 1.

Average Burden Per Response: 10 minutes.

Estimated Annual Burden: 3,333 hours.

6. Employer Verification of Earnings After Death—0960-0472. The information collected on Form SSA-L4112 is used by SSA to determine whether wages reported by an employer are correct, when SSA records indicate that the wage earner is deceased. The respondents are employers who report wages for a deceased employee.

Number of Respondents: 50,000.

Frequency of Response: 1.

Average Burden Per Response: 10 minutes.

Estimated Annual Burden: 8,333 hours.

7. Site Review Questionnaire for Volume Payees, SSA-637; Site Review Questionnaire for Fee-for Service Payees, SSA-638; Site Review—Beneficiary Interview Form, SSA-639—0960-NEW. Titles II and XVI of the Social Security Act provide for the payment of Social Security and SSI benefits to a relative, another person, or an organization when the best interests of the beneficiary will be served. Social Security regulations outline the duties and responsibilities of representative payees and require a written report accounting for these benefits.

To ensure that benefits are being used properly for beneficiaries, SSA will conduct triennial site reviews for fee-for-service payees and volume payees (organizations serving 100 or more beneficiaries). The reviews include a face-to-face meeting with the payee and appropriate staff and examination/verification of a sample of beneficiary records and supporting documentation, and may include beneficiary or custodian interviews. The information gathered using forms SSA-637, SSA-638 and SSA-639 will be used to ensure compliance with representative payment policies and procedures. It will enable SSA to identify poor payee performance and initiate corrective action as appropriate. The respondents are individuals who receive a fee for service, organizations serving as representative payees for 100 or more Social Security and SSI beneficiaries, and beneficiaries or custodians. Following is an estimate of the annual public reporting burden:

| Volume payees | Fee-for-service payees | Beneficiaries/custodians
Number of respondents | 347 | 333 | 2,040
Frequency of response | 1 | 1 | 1
Average burden per response (minutes) | 60 | 60 | 10
Estimated annual burden (hours) | 347 | 333 | 340

Dated: April 6, 2001.
Frederick W. Brickenkamp,
Reports Clearance Officer.

[FR Doc. 01-9122 Filed 4-12-01; 8:45 am]

BILLING CODE 4191-02-U